DEPARTMENT OF HEALTH AND HUMAN SERVICES

Administration for Children and Families

Agency Recordkeeping/Reporting Requirements Under Emergency Review by the Office of Management and Budget (OMB)

Title: Application and Reporting Requirements to support projects under the Adoption Opportunities Program.

OMB No.: New Request.

Description: The major efforts mandated by the authorizing Adoption Opportunities program legislation, section 205 of the Child Abuse Prevention and Treatment and Adoption Reform Act of 1978, (Pub. L. 95-266), as amended are:

(a) The development and implementation of a national adoption and foster care data gathering and analysis system;

(b) The development and implementation of a national adoption information exchange system;

(c) The development and implementation of an adoption training and technical assistance program;

(d) Increasing services in support of the placement in adoptive families of minority children who are in foster care and have the goal of adoption, with a special emphasis on the recruitment of minority families;

(e) Increasing post-legal adoption services for families who have adopted children with special needs;

(f) Studying the nature, scope, and effects of the placement of children in kinship care arrangements, pre-adoptive, or adoptive homes;

(g) Studying the efficacy of States contracting with public or private nonprofit agencies (including community-based and other organizations);

(h) Consult with other appropriate Federal departments and agencies in order to promote maximum coordination of the services and benefits provided under programs carried out by such departments and agencies with those carried out by the Secretary, and provide for the coordination of such aspects of all programs within the DHHS relating to adoption;

(i) Maintain a National Resource Center for Special Needs Adoption; and

(j) Provide for the provision of programs aimed at increasing the number of minority children (who are in foster care and have the goal of adoption) placed in adoptive families, with a special emphasis on recruitment of minority families.

In these areas, research and demonstration grants are awarded through a competitive process to States, local government entities, federally recognized Indian Tribes and tribal organizations, colleges and universities, public or private nonprofit licensed child welfare or adoption agencies, adoption exchanges and community-based organizations with experience in working with minority populations.

Each of these areas is addressed each year, as new awards or as continuations of awards from previous years' competitions. Over time, the projects have demonstrated that improvements in placing children with adoptive families are achieved when permanent plans are made and carried out very early in the placement; when there are sufficiently trained and experienced staff; and when there are resources available and administrative commitments to adoption and to coordinated community-based efforts.

Respondents: Not-for-profit institutions.

Annual Burden Estimates
Instrument | Number of respondents | Number of responses per respondent | Average burden hours per response | Total burden hours
EZ Form | 80 | 1 | 20 | 1600
Estimated Total Annual Burden Hours |  |  |  | 1,525 hours

Additional Information: ACF is requesting that OMB grant a 180 day approval for this information collection under procedures for emergency processing by February 28, 2002. A copy of this information collection, with applicable supporting documentation, may be obtained by calling the Administration for Children and Families, Reports Clearance Officer, Robert Sargis at (202) 690-7275. In addition, a request may be made by sending an e-mail request to: rsargis@acf.dhhs.gov.

Comments and questions about the information collection described above should be directed to the following address by February 28, 2002: Office of Information and Regulatory Affairs, Attn: OMB Desk Officer for ACF, Office of Management and Budget, Paper Reduction Project, 725 17th Street, NW., Washington, DC 20503.

Dated: February 5, 2002.
Bob Sargis,
Reports Clearance Officer.

[FR Doc. 02-3352 Filed 2-11-02; 8:45 am]

BILLING CODE 4184-01-M